DEPARTMENT OF THE INTERIOR

National Park Service

[NPS-NER-HPPC-0206-9480; 4350-HAMP-409]

General Management Plan/Final Environmental Impact Statement, Hampton National Historic Site, Maryland

AGENCY: National Park Service, Interior.

ACTION: Notice of availability.

SUMMARY: The National Park Service (NPS) announces the availability of the Final Environmental Impact Statement for the General Management Plan (Final GMP/EIS) for Hampton National Historic Site (NHS), Maryland. The Final GMP/EIS identifies Alternative 3 as the NPS preferred alternative for the new GMP for Hampton NHS. When approved, the GMP will provide guidance to park management for administration, development, and interpretation of park resources over the next 20 years.

DATES: The NPS will execute a Record of Decision (ROD) no sooner than 30 days after the date of publication by the Environmental Protection Agency of a Notice of Availability of the Final GMP/EIS in the Federal Register.

ADDRESSES: The Final GMP/EIS is available for online at the NPS Planning, Environment, and Public Comment (PEPC) Web site (http://parkplanning.nps.gov/hamp), and the park's Web site (http://www.nps.gov/hamp). Printed hardcopies can be viewed at the following locations:

Hampton National Historic Site, 535 Hampton Lane, Towson, Maryland 21286.

Fort McHenry National and Historic Shrine, End of East Fort Avenue, Baltimore, Maryland 21230.

Towson Branch Library/Baltimore County Library, 320 York Avenue, Towson, Maryland 21204.

Baltimore County Tourism Office and Towson Chamber of Commerce, 44 West Chesapeake Avenue, Towson, Maryland 21204.

FOR FURTHER INFORMATION CONTACT: Tina Orcutt, Superintendent, Hampton National Historic Site, 535 Hampton Road, Towson, Maryland 21286-1397, (410) 823-1309 ext. 101.

SUPPLEMENTARY INFORMATION: The NPS prepared a Draft GMP/EIS to evaluate alternatives to guide the development and future management of Hampton NHS. Alternative 1 would continue current management direction and visitor experience. Alternative 2 would remove post-1948 development and consolidate administrative functions in an effort to recreate the feeling of the Hampton Estate near the end of its period of greatest significance (mid to late 19th century). Alternative 3, the NPS preferred alternative, would expand the visitor experience to include the entire story of the park from the 19th century through the changes of activity and ownership in the 20th century; broaden the stories to include all those who lived and worked at the mansion, the plantations and related Ridgely family enterprises; and provide visitor services and accommodate park operations within the historic and modern buildings existing on the property now. Alternative 3 was also identified as the Environmentally Preferred Alternative. The Draft GMP/EIS was available for public and agency review from October 11, 2010, through December 24, 2010. Printed copies of the Draft GMP/EIS were available at the locations listed above and online at the NPS PEPC Web site (http://parkplanning.nps.gov/hamp). Three public open houses were held in November, 2010.

The Final GMP/EIS responds to, and incorporates, agency and public comments received on the Draft GMP/EIS. Agency and public comments with NPS responses are provided on page 135 of the Final GMP/EIS. After careful review of all comments received, Alternative 3 remains the NPS preferred alternative for the new GMP for Hampton NHS. The public release of the Final GMP/EIS will be followed by a no-action period that will end no sooner than 30 days from the date of publication by the Environmental Protection Agency of a Notice of Availability of the Final GMP/EIS in the Federal Register. After the 30-day no action period, a Record of Decision will be prepared to document the selected alternative and set forth any stipulations for implementation of the GMP.

Dated: January 27, 2012.
Dennis R. Reidenbach,
Regional Director, Northeast Region, National Park Service.

[FR Doc. 2012-6757 Filed 3-20-12; 8:45 am]

BILLING CODE 4312-56-P